DEPARTMENT OF HEALTH AND HUMAN SERVICES

Health Resources and Services Administration

Notice of Senior Executive Service Performance Review Board Membership

The Health Resources and Services Administration (HRSA) announces the appointment of members to the HRSA Senior Executive Service (SES) Performance Review Board (PRB). This action is being taken in accordance with Title 5, U.S.C. 4314(c)(4), which requires notice of the appointment of members of performance review boards to be published in the Federal Register.

The function of the PRB is to ensure consistency, stability and objectivity in SES performance appraisals, and to make recommendations to the Administrator, HRSA, relating to the performance of senior executives in the Agency.

The following persons will serve on the HRSA SES Performance Review Board: Dennis P. Williams, Catherine A. Flickinger, Denise H. Geolot, Neil Sampson, Merle G. McPherson, Samuel Shekar, Stephen R. Smith, Marcia K. Brand, Kerry Nesseler, Katherine M. Marconi, Peter C. van Dyck, Deborah Parham, Mary J. Horner, J. Henry Montes, Steven A. Pelovitz, Douglas Morgan, James Macrae, A. Michelle Snyder, Patricia L. Mackey, Jon L. Nelson, and Kay Templeton Garvey.

For further information about the HRSA Performance Review Board, contact Ms. Wendy Ponton, HRSA Office of Administration and Financial Management, 5600 Fishers Lane, Room 14A20, Rockville, Maryland 20857.

Dated: October 8, 2004.
Elizabeth M. Duke,
Administrator.

[FR Doc. 04-23185 Filed 10-14-04; 8:45 am]

BILLING CODE 4165-15-P